DEPARTMENT OF TRANSPORTATION

Federal Aviation Administration

14 CFR Part 39

[Docket No. FAA-2007-0075; Directorate Identifier 2007-NM-171-AD; Amendment 39-15390; AD 2008-04-18]

RIN 2120-AA64

Airworthiness Directives; EMBRAER Model EMB-120, -120ER, -120FC, -120QC, and -120RT Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

It has been found that former revisions of the Maintenance Review Board Report (MRBR) of the EMB-120( ) aircraft do not fully comply with some Critical Design Configuration Control Limitations (CDCCL) and Fuel System Limitations (FSL). These limitations are necessary to preclude ignition sources in the fuel system, as required by RBHA-E88/SFAR-88 (Special Federal Aviation Regulation No. 88).

* * * * *

The potential of ignition sources, in combination with flammable fuel vapors, could result in fuel tank explosions and consequent loss of the airplane. We are issuing this AD to require actions to correct the unsafe condition on these products.

DATES: This AD becomes effective April 3, 2008.

The Director of the Federal Register approved the incorporation by reference of certain publications listed in this AD as of April 3, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, FAA, Transport Airplane Directorate, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on October 23, 2007 (72 FR 59967). That NPRM proposed to correct an unsafe condition for the specified products. The MCAI states:

It has been found that former revisions of the Maintenance Review Board Report (MRBR) of the EMB-120( ) aircraft do not fully comply with some Critical Design Configuration Control Limitations (CDCCL) and Fuel System Limitations (FSL). These limitations are necessary to preclude ignition sources in the fuel system, as required by RBHA-E88/SFAR-88 (Special Federal Aviation Regulation No. 88).

Since this condition affects flight safety, a corrective action is required. Thus, sufficient reason exists to request compliance with this AD in the indicated time limit.

The potential of ignition sources, in combination with flammable fuel vapors, could result in fuel tank explosions and consequent loss of the airplane. The corrective action is revising the Airworthiness Limitations Section of the Instructions for Continued Airworthiness to incorporate new limitations for fuel tank systems. You may obtain further information by examining the MCAI in the AD docket.

Comments

We gave the public the opportunity to participate in developing this AD. We received no comments on the NPRM or on the determination of the cost to the public.

Changes to This AD

For standardization purposes, we have revised this AD in the following ways:

• We revised the language in Note 1 of this AD to correspond to the language contained in the same note in similar ADs.

• We revised paragraph (f)(4) of this AD to specify that no alternative inspections, inspection intervals, or CDCCLs may be used unless they are part of a later approved revision of certain documents specified in this AD, or unless they are approved as an alternative method of compliance (AMOC). Inclusion of this paragraph in the AD is intended to ensure that the AD-mandated airworthiness limitations changes are treated the same as the airworthiness limitations issued with the original type certificate.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 109 products of U.S. registry. We also estimate that it will take about 1 work-hour per product to comply with the basic requirements of this AD. The average labor rate is $80 per work-hour. Based on these figures, we estimate the cost of this AD to the U.S. operators to be $8,720, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-04-18 Empresa Brasileira de Aeronautica S.A. (EMBRAER): Amendment 39-15390. Docket No. FAA-2007-0075; Directorate Identifier 2007-NM-171-AD.

Effective Date

(a) This airworthiness directive (AD) becomes effective April 3, 2008.

Affected ADs

(b) None.

Applicability

(c) This AD applies to all EMBRAER Model EMB-120, -120ER, -120FC, -120QC, and -120RT airplanes; certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (g) of this AD. The request should include a description of changes to the required inspections that will ensure the continued operational safety of the airplane.

Subject

(d) Air Transport Association (ATA) of America Code 28: Fuel.

Reason

(e) The mandatory continuing airworthiness information (MCAI) states:

It has been found that former revisions of the Maintenance Review Board Report (MRBR) of the EMB-120( ) aircraft do not fully comply with some Critical Design Configuration Control Limitations (CDCCL) and Fuel System Limitations (FSL). These limitations are necessary to preclude ignition sources in the fuel system, as required by RBHA-E88/SFAR-88 (Special Federal Aviation Regulation No. 88).

Since this condition affects flight safety, a corrective action is required. Thus, sufficient reason exists to request compliance with this AD in the indicated time limit.

The potential of ignition sources, in combination with flammable fuel vapors, could result in fuel tank explosions and consequent loss of the airplane. The corrective action is revising the Airworthiness Limitations Section of the Instructions for Continued Airworthiness to incorporate new limitations for fuel tank systems.

Actions and Compliance

(f) Unless already done, do the following actions.

(1) Within 1 month after the effective date of this AD, revise the Airworthiness Limitations Section (ALS) of the Instructions for Continued Airworthiness to incorporate Tasks 15 to 18 of Section 6—“Part E—Fuel System Limitations,” EMBRAER Temporary Revision No. 22-1, dated November 18, 2005, of the EMBRAER EMB-120 Brasilia Maintenance Review Board Report (MRBR), MRB-HI-200. For all tasks identified in the MRBR, the initial compliance times start from the later of the times specified in paragraphs (f)(1)(i) and (f)(1)(ii) of this AD, and the repetitive inspections must be accomplished thereafter at the interval specified in the MRBR, except as provided by paragraphs (f)(3) and (g)(1) of this AD.

(i) The effective date of this AD.

(ii) The date of issuance of the original Brazilian standard airworthiness certificate or the date of issuance of the original Brazilian export certificate of airworthiness.

(2) Within 1 month after the effective date of this AD, revise the ALS of the Instructions for Continued Airworthiness to incorporate the CDCCLs to include items (1) and (2), dated March 22, 2005, of Section 6—“Part D—Critical Design Configuration Control Limitation,” of the EMBRAER EMB-120 Brasilia MRBR, MRB-HI-200.

(3) For the functional checks and detailed visual inspections, Tasks 15 to 18 of Section 6—“Part E—Fuel System Limitations,” EMBRAER Temporary Revision No. 22-1, dated November 18, 2005, of the EMBRAER EMB-120 Brasilia MRBR, MRB-HI-200: The initial compliance time is within 4,000 flight hours or 48 months after the effective date of this AD, whichever occurs first. Thereafter those tasks must be accomplished at the repetitive interval specified in Section 6—“Part E—Fuel System Limitations,” EMBRAER Temporary Revision No. 22-1, dated November 18, 2005, of the EMBRAER EMB-120 Brasilia MRBR, MRB-HI-200.

(4) After accomplishing the actions specified in paragraphs (f)(1) and (f)(2) of this AD, no alternative inspections, inspection intervals, or CDCCLs may be used unless the inspections, intervals, or CDCCLs are part of a later revision of EMBRAER EMB-120 Brasilia MRBR, MRB-HI-200, dated March 22, 2005, that is approved by the Manager, International Branch, ANM-116, Transport Airplane Directorate, FAA, or the Agência Nacional de Aviação Civil (ANAC) (or its delegated agent); or unless the inspections, intervals, or CDCCLs are approved as an alternative method of compliance in accordance with the procedures specified in paragraph (g)(1) of this AD.

FAA AD Differences

Note 2: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, FAA, Transport Airplane Directorate, 1601 Lind Avenue, SW., Renton, Washington 98057-3356; telephone (425) 227-2125; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Brazilian Airworthiness Directive 2007-05-02, effective June 6, 2007; EMBRAER Temporary Revision No. 22-1, dated November 18, 2005, of the EMBRAER EMB-120 Brasilia MRBR, MRB-HI-200; and Section 6—“Part D—Critical Design Configuration Control Limitation,” of the EMBRAER EMB-120 Brasilia MRBR, MRB-HI-200; for related information.

Material Incorporated by Reference

(i) You must use EMBRAER Temporary Revision No. 22-1, dated November 18, 2005, of the EMBRAER EMB-120 Brasilia Maintenance Review Board Report, MRB-HI-200; and pages 6.III.1 and 6.III.2, dated March 22, 2005, of Section 6—“Part D—Critical Design Configuration Control Limitation,” of the EMBRAER EMB-120 Brasilia Maintenance Review Board Report, MRB-HI-200; to do the actions required by this AD, unless the AD specifies otherwise. EMBRAER EMB-120 Brasilia Maintenance Review Board Report, MRB-HI-200, contains the following effective pages:

Page No. | Date shown on page
List of Effective Pages:
Pages III-VII | December 1, 2006.

(1) The Director of the Federal Register approved the incorporation by reference of this service information under 5 U.S.C. 552(a) and 1 CFR part 51.

(2) For service information identified in this AD, contact Empresa Brasileira de Aeronautica S.A. (EMBRAER), P.O. Box 343—CEP 12.225, Sao Jose dos Campos—SP, Brazil.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Issued in Renton, Washington, on February 15, 2008.
Ali Bahrami,
Manager, Transport Airplane Directorate, Aircraft Certification Service.

[FR Doc. E8-3399 Filed 2-27-08; 8:45 am]

BILLING CODE 4910-13-P